NATIONAL SCIENCE FOUNDATION

Agency Information Collection Activities: Comment Request

AGENCY: National Science Foundation.

ACTION: Notice.

SUMMARY: The National Science Foundation (NSF) is announcing plans to request reinstatement and approval of this data collection. In accordance with the requirement of section 3506(c)(2)(A) of the Paperwork Reduction Act of 1995, we are providing opportunity for public comment on this information collection.

Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

DATES: Written comments should be received by February 7, 2003, to be assured of consideration. Comments received after that date will be considered to the extent practicable.

ADDRESSES: Written comments regarding the information collection and requests for copies of the proposed information collection request should be addressed to Suzanne Plimpton, Reports Clearance Officer, National Science Foundation, 4201 Wilson Blvd., Rm. 295, Arlington, VA 22230, or by e-mail to splimpto@nsf.gov.

FOR FURTHER INFORMATION CONTACT: Suzanne Plimpton on (703) 292-7556 or send e-mail to splimpto@nsf.gov. Individuals who use a telecommunications device for the deaf (TDD) may call the Federal Information Relay Service (FIRS) at 1-800-877-8339 between 8 a.m. and 8 p.m., eastern time, Monday through Friday.

SUPPLEMENTARY INFORMATION: Title of Collection: 2003 and 2005 Survey of Scientific and Engineering Research Facilities.

Expiration Date of Approval: August 31, 2002.

Type of Request: Intent to seek approval to reinstate, with revisions, an information collection for three years.

Proposed Project: The National Science Foundation Survey of Scientific and Engineering Research Facilities is a Congressionally mandated (Pub. L. 99-159), biennial survey that has been conducted since 1986. The survey collects data on the amount, condition, and costs of the physical facilities used to conduct science and engineering research. It was expected by Congress that this survey would provide the data necessary to describe the status and needs of science and engineering research facilities and to formulate appropriate solutions to documented needs. During the 1999 and 2001 survey cycles, data were collected from a population of approximately 600 research-performing colleges and universities. This survey population was supplemented with approximately 250 nonprofit biomedical research institutions receiving research support from the National Institutes of Health. During the 2001 cycle, a very limited survey consisting of two questions was fielded in order to allow the National Science Foundation to focus on updating and redesigning the survey. Through this extensive redesign effort, a new section has been added to the survey requesting information on the computing and networking capacity at the surveyed institutions, an increasingly important part of the infrastructure for science and engineering research. Other important changes include the deletion of a question on the adequacy of research space, the deletion of the Large Facilities Follow-up Survey, the additional collection of data on individual construction projects and the addition of a more detailed question on how research space is divided among laboratories, laboratory support space, and office space.

Use of the Information: Analysis of the Facilities Survey data will provide updated information on the status of scientific and engineering research facilities. The information can be used by Federal policy makers, planners, and budget analysts in making policy decisions, as well as by academic officials, the scientific/engineering establishment, and state agencies that fund universities.

Burden on the Public: The Facilities Survey will be sent by mail to approximately 600 academic institutions and 250 nonprofit research organizations and hospitals. The completion time per academic institution is expected to average 30 hours and the completion time per research organization/hospitals is expected to average 5 hours. Assuming a 90% response rate, this would result in an estimated burden of 16,200 hours for academic institutions and 1,125 hours for nonprofit research organizations/hospitals.

Dated: December 4, 2002.
Suzanne H. Plimpton,
Reports Clearance Officer, National Science Foundation.

[FR Doc. 02-31006 Filed 12-6-02; 8:45 am]

BILLING CODE 7555-01-M